DEPARTMENT OF COMMERCE

National Oceanic and Atmospheric Administration

50 CFR Part 648

[Docket No. 200110-0007; RTID 0648-XX008]

Revisions to Framework Adjustment 58 to the Northeast Multispecies Fishery Management Plan and Sector Annual Catch Entitlements; Updated Annual Catch Limits for Sectors and the Common Pool for Fishing Year 2019; Correction

AGENCY: National Marine Fisheries Service (NMFS), National Oceanic and Atmospheric Administration (NOAA), Commerce.

ACTION: Final rule; adjustment to specifications; correction.

SUMMARY: This final rule corrects minor errors published in our rule approving and implementing Framework Adjustment 58 to the Northeast Multispecies Fishery Management Plan and distributes sector allocation carried over from fishing year 2018 into fishing year 2019 as authorized by the sector regulations. This action is necessary to correct errors published in the final rule and to allocate carryover quota to sectors. The carryover adjustments are routine and formulaic, and industry expects them each year.

DATES: Effective January 24, 2020, through April 30, 2020.

FOR FURTHER INFORMATION CONTACT: Claire Fitz-Gerald, Fishery Management Specialist, (978) 281-9255.

SUPPLEMENTARY INFORMATION: We recently published a final rule approving Framework Adjustment 58 to the Northeast Multispecies Fishery Management Plan (FMP), which set 2019-2020 annual catch limits (ACL) for four groundfish stocks, and 2019 ACLs for three shared U.S./Canada stocks. That action became effective on July 18, 2019 (84 FR 34799; July 19, 2019). This rule corrects minor errors published in the Framework Adjustment 58 final rule and distributes unused sector quota carried over from fishing year 2018.

Corrections to Framework Adjustment 58

Correction to Fishing Year 2020 Georges Bank Yellowtail Flounder Acceptable Biological Catch in Table 2

Table 2 published fishing year 2019 and 2020 overfishing limits and acceptable biological catch (ABC) for 20 groundfish stocks. The fishing year 2020 ABC published in the table for Georges Bank (GB) yellowtail flounder was incorrect. The ABC published in Framework Adjustment 58 was 168 mt, but the ABC approved by the Scientific and Statistical Committee was 162 mt. This error was the result of a typographical error in the Environmental Assessment that was repeated in the rulemaking. It did not affect the ACL or sub-ACL. The corrected information appears in the table below.

Table 1—Corrected Fishing Years 2019-2020 Overfishing Limits and Acceptable Biological Catches for GB Yellowtail Flounder (mt, live weight), Table 2 in Framework Adjustment 58
Stock | 2019: OFL | 2019: U.S. ABC | Percent change from 2018 | 2020: OFL | 2020: U.S. ABC
GB Yellowtail Flounder | UNK | 106 | −50 | UNK | 162

Correction to Fishing Year 2019 Gulf of Maine Cod Annual Catch Limits in Table 3

In fishing year 2017, Gulf of Maine (GOM) cod catch exceeded the total ACL and ABC due to excess catch by the recreational fishery, state waters sub-component, and the other sub-component. Accountability measures described in the regulations require sectors and the common pool to pay back their share of the overage for the unallocated fishery components (state waters and other sub-components) pound-for-pound. The application of this accountability measure resulted in reductions of 28.8 mt to the sector sub-ACL and 0.4 mt to the common pool sub-ACL for fishing year 2019.

Framework Adjustment 58 announced this reduction and published revised 2019 allocations that accounted for the overage. According to regulation, the overage should be applied to the sector and common pool sub-ACLs only; the total ACL and commercial groundfish sub-ACL should not be reduced. The GOM cod total ACL and commercial groundfish sub-ACL published in Framework Adjustment 58 were incorrectly reduced to reflect the overage. The table below displays the incorrect GOM cod ACL and commercial groundfish sub-ACL originally published in Table 3 in Framework Adjustment 58, as well as the corrected values. This correction is administrative only, does not change the amount of quota available to sectors or the common pool, and ensures the published catch limits are consistent with the Framework 58 Environmental Assessment.

Table 2—Corrected GOM Cod Catch Limits for 2019 Fishing Year (mt, live weight), Table 3 in Framework Adjustment 58
Stock | Total ACL | Groundfish sub-ACL | Final sector sub-ACL | Final common pool sub-ACL | Recreational sub-ACL | Midwater trawl fishery | Scallop fishery | Small- mesh fisheries | State waters sub-component | Other sub-component
| A to H | A + B + C | A | B | C | D | E | F | G | H
Framework 58 GOM Cod | 637 | 581 | 350 | 11 | 220 |  |  |  | 47 | 9
Corrected GOM Cod | 666 | 610 | 350 | 11 | 220 |  |  |  | 47 | 9

Correction to Formatting in Table 8

The final rule for Framework Adjustment 58 included Table 8, which provided the incidental catch total allowable catches (TACs) for each special management program for fishing years 2019 and 2020. The published rule included a formatting error that made Table 8 difficult to interpret. This rule republishes Table 8 in the correct format.

Table 3—Fishing Years 2019-2020 Incidental TACs for Each Special Management Program (mt, live weight), Table 8 in Framework Adjustment 58
Stock | Regular B DAS program: 2019 | Regular B DAS program: 2020 | Closed area I hook gear haddock SAP: 2019 | Closed area I hook gear haddock SAP: 2020 | Eastern U.S./Canada haddock SAP: 2019 | Eastern U.S./Canada haddock SAP: 2020
GB Cod | 0.54 | 0.67 | 0.17 | 0.22 | 0.37 | 0.46
GOM Cod | 0.11 | 0.11
GB Yellowtail Flounder | 0.02 | 0.04 |  |  | 0.02 | 0.04
CC/GOM Yellowtail Flounder | 0.21 | 0.21
American Plaice | 1.57 | 1.46
Witch Flounder | 1.15 | 1.15
SNE/MA Winter Flounder | 0.74 | 0.74

Correction to Terminal Year of Witch Flounder Rebuilding Plan

Framework Adjustment 58 included new or revised rebuilding plans for several stocks, including witch flounder. The New England Fishery Management Council approved, and Framework Adjustment 58 implemented, a 23-year rebuilding plan for witch flounder. The final rule stated that the plan's official start date would be January 1, 2020, with a target to rebuild by calendar year (CY) 2043. A stock on a 23-year rebuilding plan that begins in CY 2020 would be expected to rebuild by the end of CY 2042, not CY 2043. This rule corrects the terminal year for the witch flounder rebuilding plan to CY 2042.

Sector Carryover Allocations From Fishing Year 2018

Sector regulations at 50 CFR 648.87(c) authorize us to adjust annual catch entitlement (ACE) carryover to ensure that the total unused ACE combined with the overall sub-ACL does not exceed the ABC for the fishing year in which the carryover may be harvested. We have completed 2018 fishing year data reconciliation with sectors and determined final 2018 fishing year sector catch and the amount of allocation that sectors may carry over from the 2018 to the 2019 fishing year. A sector may carry over up to 10 percent of unused ACE for each stock, except in instances where the amount of unused ACE was reduced so as not to exceed the ABC. Accordingly, unused ACE from fishing year 2018 available to carry over to 2019 was reduced for the following stocks: GB cod, GB haddock; GOM haddock; Southern New England/Mid-Atlantic (SNE/MA) yellowtail flounder; Cape Cod/GOM yellowtail flounder; American plaice; GB winter flounder; GOM winter flounder; SNE/MA winter flounder; redfish; white hake; and pollock. Complete details on carryover reduction percentages can be found at: https://www.greateratlantic.fisheries.noaa.gov/ro/fso/reports/h/groundfish_catch_accounting. Table 4 includes the maximum amount of allocation that sectors may carry over from the 2018 to the 2019 fishing year.

Table 5 includes the de minimis amount of carryover for each sector for the 2019 fishing year. If the overall ACL for any allocated stock is exceeded for the 2019 fishing year, the allowed carryover harvested by a sector, minus the pounds in the sector's de minimis amount, will be counted against its allocation to determine whether an overage subject to an accountability measure occurred. Tables 6 and 7 list the final ACE available to sectors for the 2019 fishing year, including finalized carryover amounts for each sector, as adjusted down when necessary to equal each stock's ABC.

BILLING CODE 3510-22-P

BILLING CODE 3510-22-C

Classification

The NMFS Assistant Administrator has determined that this rule is consistent with the Northeast Multispecies FMP, other provisions of the Magnuson-Stevens Fishery Conservation and Management Act, and other applicable laws.

This rule has been determined to be not significant for the purposes of Executive Order 12866.

Pursuant to 5 U.S.C. 553(b)(3)(B), we find good cause to waive prior public notice and opportunity for public comment on the minor corrections and allocation adjustments because allowing time for notice and comment is impracticable, unnecessary, and contrary to the public interest. We also find good cause to waive the 30-day delay in effectiveness pursuant to 5 U.S.C. 553(d)(1) and (3), so that this final rule may become effective in a timely manner and maximize the economic benefits of the adjusted allocations to the fishery.

Notice and comment and a 30-day delay in effectiveness would be impracticable, unnecessary, and contrary to the public interest. The adjustments in this rule are necessary to correct minor errors made in the Framework Adjustment 58 final rule. Correcting these errors is not subject to our discretion, so there would be no benefit to allowing time for notice and comment. Immediate implementation corrects information published in Framework Adjustment 58 and provides industry with the most accurate information. Delaying these adjustments could cause confusion to industry. The distribution of unused quota carried over from the previous fishing year is an annual adjustment action that is expected by industry and causes no economic harm. Some of these adjustments increase available catch. They are routine, formulaic, and authorized by regulation. Delaying these adjustments would result in a delay in the distribution of unused carryover to sectors, and could negate or reduce the intended economic benefits of the rule.

Also, because advanced notice and the opportunity for public comment are not required for this action under the Administrative Procedure Act, or any other law, the analytical requirements of the Regulatory Flexibility Act, 5 U.S.C. 601, et seq., do not apply to this rule. Therefore, no final regulatory flexibility analysis is required and none has been prepared.

Authority: 16 U.S.C. 1801 et seq.

Dated: January 13, 2020.
Samuel D. Rauch III,
Deputy Assistant Administrator for Regulatory Programs, National Marine Fisheries Service.

[FR Doc. 2020-00652 Filed 1-24-20; 8:45 am]

BILLING CODE 3510-22-P